DEPARTMENT OF HOMELAND SECURITY

Federal Emergency Management Agency

[Docket ID FEMA-2022-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
California:
Santa Barbara (FEMA Docket No.: B-2175). | City of Goleta (21-09-0174P). | The Honorable Paula Perotte, Mayor, City of Goleta, 130 Cremona Drive, Suite B, Goleta, CA 93117. | Public Works Department, 130 Cremona Drive, Suite B, Goleta, CA 93117. | Jan. 31, 2022 | 060771
Santa Barbara (FEMA Docket No.: B-2175). | Unincorporated areas of Santa Barbara County, (21-09-0174P). | Ms. Mona Miyasato, Santa Barbara County, Executive Officer, 105 East Anapamu Street, Suite 406, Santa Barbara, CA 93101. | Santa Barbara County, Flood Control and Water Conservation, District 130, East Victoria Street, Suite 200, Santa Barbara, CA 93101. | Jan. 31, 2022 | 060331
Colorado:
Boulder (FEMA Docket No.: B-2175). | Town of Erie (21-08-0313P). | The Honorable Jennifer Carroll, Mayor, Town of Erie P.O. Box 750 Erie, CO 80516. | Town Hall, 645 Holbrook Street, Erie, CO 80516. | Jan. 26, 2022 | 080181
Boulder (FEMA Docket No.: B-2175). | Unincorporated areas of Boulder County (21-08-0313P). | The Honorable Matt Jones, Chairman, Boulder County, Board of Commissioners, P.O. Box 471, Boulder, CO 80306. | Boulder County, Transportation Department, 2525 13th Street, Suite 203, Boulder, CO 80304. | Jan. 26, 2022 | 080023
Weld (FEMA Docket No.: B-2175). | City of Evans (21-08-0633P). | The Honorable Brian Rudy, Mayor, City of Evans, 1100 37th Street, Evans, CO 80620. | City Hall, 1100 37th Street, Evans, CO 80620. | Jan. 27, 2022 | 080182
Weld (FEMA Docket No.: B-2175). | Unincorporated areas of Weld County (21-08-0633P). | The Honorable Steve Moreno, Chairman, Weld County, Board of Commissioners, P.O. Box 758, Greeley, CO 80632. | Weld County Commissioner's Office, 1150 O Street, Greeley, CO 80631. | Jan. 27, 2022 | 080266
Florida:
Monroe (FEMA Docket No.: B-2178). | City of Key West (21-04-3573P). | The Honorable Teri Johnston, Mayor, City of Key West, P.O. Box, 1409 Key West, FL 33041. | City Hall, 1300 White Street, Key West, FL 33041. | Jan. 24, 2022 | 120168
Monroe (FEMA Docket No.: B-2175). | City of Marathon (21-04-4337P). | The Honorable Luis Gonzalez, Mayor, City of Marathon, 9805 Overseas Highway, Marathon, FL 33050. | Planning Department, 9805 Overseas Highway, Marathon, FL 33050. | Jan. 18, 2022 | 120681
Monroe (FEMA Docket No.: B-2178). | Unincorporated areas of Monroe County (21-04-4442P). | The Honorable Michelle Coldiron, Commissioner, Monroe County, Board of Commissioners, 25 Ships Way Big Pine Key, FL 33043. | Monroe County, Building Department, 2798 Overseas Highway, Suite 300, Marathon, FL 33050. | Jan. 24, 2022 | 125129
Volusia (FEMA Docket No.: B-2175). | City of DeBary (21-04-0574P). | Ms. Carmen, Rosamonda Manager, City of DeBary, 16 Colombia Road, DeBary, FL 32713. | City Hall, 16 Colombia Road, DeBary, FL 32713. | Jan. 19, 2022 | 120672
Mississippi: DeSoto (FEMA Docket No.: B-2178). | City of Southaven (21-04-1757P). | The Honorable Darren Musselwhite, Mayor, City of Southaven, 8710 Northwest Drive, Southaven, MS 38671. | Geographic Information Systems Department, 8710 Northwest Drive, Southaven, MS 38671. | Jan. 28, 2022 | 280331
Montana: Stillwater (FEMA Docket No.: B-2175). | Unincorporated areas of Stillwater County (21-08-0127P). | The Honorable Mark Crago, Chairman, Stillwater County, Board of Commissioners, P.O. Box 970, Columbus, MT 59019. | Stillwater County, South Annex, 17 North 4th Street, Columbus, MT 59019. | Jan. 21, 2022 | 300078
South Carolina:
Charleston (FEMA Docket No.: B-2175). | City of North Charleston (21-04-4892P). | The Honorable R. Keith Summey, Mayor, City of North Charleston, 2500 City Hall Lane, North Charleston, SC 29406. | Building Department, 2500 City Hall Lane, North Charleston, SC 29406. | Jan. 24, 2022 | 450042
Charleston (FEMA Docket No.: B-2178). | Town of Mount Pleasant (21-04-4673P). | The Honorable Will Haynie, Mayor, Town of Mount Pleasant, 100 Ann Edwards Lane, Mount Pleasant, SC 29464. | Engineering and Development Services Department, 100 Ann Edwards Lane, Mount Pleasant, SC 29464. | Jan. 31, 2022 | 455417
South Dakota: Pennington (FEMA Docket No.: B-2182). | Unincorporated areas of Pennington County (21-08-0193P). | The Honorable Gary Drewes, Chairman, Pennington County, Board of Commissioners, 130 Kansas City Street, Suite 100, Rapid City, SD 57701. | Pennington County, Office Building, 130 Kansas City Street, Rapid City, SD 57701. | Jan. 18, 2022 | 460064
Tennessee: Williamson (FEMA Docket No.: B-2175). | Unincorporated areas of Williamson County (21-04-2547P). | The Honorable Rogers Anderson, Mayor, Williamson County, 1320 West Main Street, Suite 125, Franklin, TN 37064. | Williamson County, Administrative Complex, 1320 West Main Street, Suite 400, Franklin, TN 37064. | Jan. 21, 2022 | 470204
Texas:
Collin (FEMA Docket No.: B-2178). | City of Dallas (21-06-1108P). | The Honorable Eric Johnson, Mayor, City of Dallas, 1500 Marilla Street, Suite 5EN, Dallas, TX 75201. | Oak Cliff Municipal Center, 320 East Jefferson Boulevard, Room 312, Dallas, TX 75203. | Jan. 31, 2022 | 480171
Collin (FEMA Docket No.: B-2182). | Town of Prosper (21-06-1205P). | The Honorable Ray Smith, Mayor, Town of Prosper, 250 West 1st Street, Prosper, TX 75078. | Town Hall, 250 West 1st Street, Prosper, TX 75078. | Jan. 27, 2022 | 480141
Navarro (FEMA Docket No.: B-2178). | City of Corsicana (21-06-0729P). | The Honorable Don Denbow, Mayor, City of Corsicana, 200 North 12th Street, Corsicana, TX 75110. | City Hall, 200 North 12th Street, Corsicana, TX 75110. | Jan. 26, 2022 | 480498
Tarrant (FEMA Docket No.: B-2175). | City of Benbrook (21-06-2442P). | The Honorable Jerry Dittrich, Mayor, City of Benbrook, 911 Winscott Road, Benbrook, TX 76126. | City Hall, 911 Winscott Road, Benbrook, TX 76126. | Jan. 20, 2022 | 480586
Tarrant (FEMA Docket No.: B-2175). | City of Fort Worth (21-06-0792P). | The Honorable Mattie Parker, Mayor, City of Fort Worth, 200 Texas Street, Fort Worth, TX 76102. | Transportation and Public Works Department, Engineering Vault, 200 Texas Street, Fort Worth, TX 76102. | Jan. 24, 2022 | 480596
Tarrant (FEMA Docket No.: B-2175). | City of Fort Worth (21-06-2442P). | The Honorable Mattie Parker, Mayor, City of Fort Worth, 200 Texas Street, Fort Worth, TX 76102. | Transportation and Public Works Department, Engineering Vault, 200 Texas Street, Fort Worth, TX 76102. | Jan. 20, 2022 | 480596
Tarrant (FEMA Docket No.: B-2175). | City of Keller (21-06-1040P). | The Honorable Armin R. Mizani, Mayor, City of Keller, P.O. Box 770, Keller, TX 76244. | City Hall, 1100 Bear Creek Parkway, Keller, TX 76248. | Jan. 20, 2022 | 480602
Travis (FEMA Docket No.: B-2175). | City of Austin (21-06-1313P). | The Honorable Steve Adler, Mayor, City of Austin, P.O. Box 1088, Austin, TX 78767. | Watershed Protection Department, 505 Barton Springs Road, 12th Floor, Austin, TX 78704. | Jan. 18, 2022 | 480624
Travis (FEMA Docket No.: B-2175). | City of Pflugerville (21-06-0589P). | The Honorable Victor Gonzales, Mayor, City of Pflugerville, P.O. Box 589, Pflugerville, TX 78691. | Development Services Department, 201-B East, Pecan Street, Pflugerville, TX 78691. | Jan. 18, 2022 | 481028
Travis (FEMA Docket No.: B-2175). | Unincorporated areas of Travis County (21-06-0589P). | The Honorable Andy Brown, Travis County, Judge, P.O. Box 1748, Austin, TX 78767. | Travis County Transportation and Natural Resources Department, 700 Lavaca Street, 5th Floor, Austin, TX 78701. | Jan. 18, 2022 | 481026
Virginia:
Loudoun (FEMA Docket No.: B-2178). | Unincorporated areas of Loudoun County (21-03-0460P). | Mr. Tim Hemstreet, Loudoun County Administrator, P.O. Box 7000, Leesburg, VA 20177. | Loudoun County Mapping and Geographic Information Department, 1 Harrison Street, Southeast, 3rd Floor, Leesburg, VA 20175. | Jan. 18, 2022 | 510090
Loudoun (FEMA Docket No.: B-2178). | Unincorporated areas of Loudoun County (21-03-1384P). | Mr. Tim Hemstreet, Loudoun County Administrator, P.O. Box 7000, Leesburg, VA 20177. | Loudoun County Mapping and Geographic Information Department, 1 Harrison Street, Southeast, 3rd Floor, Leesburg, VA 20175. | Jan. 31, 2022 | 510090
Prince William (FEMA Docket No.: B-2175). | City of Manassas (21-03-0526P). | Mr. W. Patrick Pate, City of Manassas Manager, 9027 Center Street, Manassas, VA 20110. | Department of Public Works, 8500 Public Works Drive, Manassas, VA 20110. | Jan. 21, 2022 | 510122
Prince William (FEMA Docket No.: B-2175). | Unincorporated areas of Prince William County (21-03-0526P). | Mr. Christopher E. Martino, Prince William County, Executive 1 County Complex Court, Prince William, VA 22192. | Prince William County Watershed Management Branch, 5 County Complex Court, Suite 170, Prince William, VA 22192. | Jan. 21, 2022 | 510119

[FR Doc. 2022-03125 Filed 2-11-22; 8:45 am]

BILLING CODE 9110-12-P